ENVIRONMENTAL PROTECTION AGENCY

40 CFR Part 52

[R03-OAR-2005-PA-0006; FRL-7917-4]

Approval and Promulgation of Air Quality Implementation Plans; Pennsylvania; Withdrawal of Direct Final Rule

AGENCY: Environmental Protection Agency (EPA).

ACTION: Withdrawal of direct final rule.

SUMMARY: Due to an adverse comment, EPA is withdrawing the direct final rule to approve reasonable available control technology (RACT) to limit volatile organic compound (VOC) emissions from three individual sources located in Pennsylvania. In the direct final rule published on April 1, 2005 (70 FR 16717), we stated that if we received adverse comment by May 2, 2005, the rule would be withdrawn and not take effect. EPA subsequently received an adverse comment on April 1, 2005. EPA will address the comment received in a subsequent final action based upon the proposed action also published on April 1, 2005 (70 FR 16784). EPA will not institute a second comment period on this action.

DATES: The direct final rule is withdrawn as of May 26, 2005.

FOR FURTHER INFORMATION CONTACT: LaKeshia Robertson, (215) 814-2113, robertson.lakeshia@epa.gov.

List of Subjects in 40 CFR Part 52

Environmental protection, Air pollution control, Nitrogen dioxide, Ozone, Reporting and recordkeeping requirements, Volatile organic compounds.

Dated: May 16, 2005.
Donald S. Welsh,
Regional Administrator, Region III.

Accordingly, the addition of the entries for Salem Tube, Inc.; Dominion Trans, Inc.; and, SGL Carbon Corporation in 40 CFR 52.2020(d)(1) published at 70 FR 16720 are withdrawn as of May 26, 2005.

[FR Doc. 05-10514 Filed 5-25-05; 8:45 am]

BILLING CODE 6560-50-P